ENVIRONMENTAL PROTECTION AGENCY

40 CFR Part 180

[EPA-HQ-OPP-2010-0275; FRL-8860-8]

Polymerized Fatty Acid Esters With Aminoalcohol Alkoxylates; Exemption From the Requirement of a Tolerance

AGENCY: Environmental Protection Agency (EPA).

ACTION: Final rule.

SUMMARY: This regulation establishes an exemption from the requirement of a tolerance for residues of polymerized fatty acid esters with aminoalcohol alkoxylates (PFAEAA) with a minimum number average molecular weight (in amu) 1,200, limited to the chemicals listed in Unit 11 of the SUPPLEMENTARY INFORMATION, when used as an inert ingredient (surfactant) under 40 CFR 180.910 (growing crops and raw agricultural commodities after harvest) and 40 CFR 180.930 (animal application). Croda Inc. submitted a petition to EPA under the Federal Food, Drug, and Cosmetic Act (FFDCA), requesting establishment of an exemption from the requirement of a tolerance. This regulation eliminates the need to establish a maximum permissible level for residues of PFAEAA.

DATES: This regulation is effective February 16, 2011. Objections and requests for hearings must be received on or before April 18, 2011, and must be filed in accordance with the instructions provided in 40 CFR part 178 (see also Unit I.C. of the SUPPLEMENTARY INFORMATION).

ADDRESSES: EPA has established a docket for this action under docket identification (ID) number EPA-HQ-OPP-2010-0275. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Deirdre Sunderland, Registration Division (7505P), Office of Pesticide Programs, Environmental Protection Agency, 1200 Pennsylvania Ave., NW., Washington, DC 20460-0001; telephone number: (703) 603-0851; e-mail address: sunderland.deirdre@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get electronic access to other related information?

You may access a frequently updated electronic version of 40 CFR part 180 through the Government Printing Office's e-CFR site at http://www.gpoaccess.gov/ecfr. To access the harmonized test guidelines referenced in this document electronically, please go to http://www.epa.gov/ocspp and select “Test Methods and Guidelines.”

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2010-0275 in the subject line on the first page of your submission. All objections and requests for a hearing must be in writing, and must be received by the Hearing Clerk on or before April 18, 2011. Addresses for mail and hand delivery of objections and hearing requests are provided in 40 CFR 178.25(b).

In addition to filing an objection or hearing request with the Hearing Clerk as described in 40 CFR part 178, please submit a copy of the filing that does not contain any CBI for inclusion in the public docket. Information not marked confidential pursuant to 40 CFR part 2 may be disclosed publicly by EPA without prior notice. Submit a copy of your non-CBI objection or hearing request, identified by docket ID number EPA-HQ-OPP-2010-0275, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Petition for Exemption

In the Federal Register of June 8, 2010 (75 FR 32463) (FRL-8827-5), EPA issued a notice pursuant to section 408 of FFDCA, 21 U.S.C. 346a, announcing the filing of a pesticide petition (PP 0E7699) by Croda Inc., 315 Cherry Lane, New Castle, DE 19720. The petition requested that 40 CFR 180.910 and 180.930 be amended by establishing an exemption from the requirement of a tolerance for residues of polymerized fatty acid esters with aminoalcohol alkoxylates (PFAEAA); limited to the following chemicals: Dimethylaminoethanol, ethoxylated, reaction products with fatty acid dimers (CAS Reg. No. 1173188-38-9); dimethylaminoethanol, ethoxylated, propoxylated, reaction products with fatty acid dimers (CAS Reg. No. 1173188-42-5 diethylaminoethanol, ethoxylated, reaction product with fatty acid dimers (CAS Reg. No. 1173188-72-1); diethylaminoethanol, ethoxylated, propoxylated, reaction products with fatty acid dimers (CAS Reg. No. 1173188-75-4); dimethylaminoethanol, ethoxylated, reaction products with fatty acid trimers (CAS Reg. No. 1173188-49-2); dimethylaminoethanol, ethoxylated, propoxylated, reaction products with fatty acid trimers (CAS Reg. No. 1173188-67-4); diethylaminoethanol, ethoxylated, reaction products with fatty acid trimers (CAS Reg. No. 1173188-81-2); diethylaminoethanol, ethoxylated, propoxylated, reaction products with fatty acid trimers (CAS Reg. No. 1173188-83-4); hydroxyethylmorpholine, ethoxylated, reaction products with fatty acid dimers (CAS Reg. No. 1173189-00-8); hydroxyethylmorpholine, ethoxylated, propoxylated, reaction products with fatty acid dimers (CAS Reg. No. 1173189-06-4); hydroxyethylpiperidine, ethoxylated, reaction products with fatty acid dimers (CAS Reg. No. 1173189-20-2); hydroxyethylpiperidine, ethoxylated, propoxylated, reaction products with fatty acid dimers (CAS Reg. No. 1173189-22-4); hydroxyethylmorpholine, ethoxylated, reaction products with fatty acid trimers (CAS Reg. No. 1173189-09-7); hydroxyethylmorpholine, ethoxylated, propoxylated, reaction products with fatty acid trimers (CAS Reg. No. 1173189-17-7); hydroxyethylpiperidine, ethoxylated, reaction products with fatty acid trimers (CAS Reg. No. 1173189-25-7); hydroxyethylpiperidine, ethoxylated, propoxylated, reaction products with fatty acid trimers (CAS Reg. No. 1173189-28-0), when used as insert ingredients (surfactants) in pesticide formulations applied to growing crops or to raw agricultural commodities after harvest and formulations applied to animals. That notice referenced a summary of the petition prepared by Croda Inc., the petitioner, which is available in the docket, http://www.regulations.gov. There were no comments received in response to the notice of filing. In the notice of filing “dimethylaminoethanol, ethoxylated, propoxylated, reaction products with fatty acid trimers” was presented with the incorrect CAS Reg. No. of 1173189-17-7. The Petitioner mistakenly listed the same CAS Reg. No. for two of the chemicals in the petition. The correct CAS Reg. No. for dimethylaminoethanol, ethoxylated, propoxylated, reaction products with fatty acid trimers is CAS Reg. No. 1173188-67-4. EPA has adopted the correct CAS Reg. No. in promulgating the tolerance exemption.

III. Inert Ingredient Definition

Inert ingredients are all ingredients that are not active ingredients as defined in 40 CFR 153.125 and include, but are not limited to, the following types of ingredients (except when they have a pesticidal efficacy of their own): Solvents such as alcohols and hydrocarbons; surfactants such as polyoxyethylene polymers and fatty acids; carriers such as clay and diatomaceous earth; thickeners such as carrageenan and modified cellulose; wetting, spreading, and dispersing agents; propellants in aerosol dispensers; microencapsulating agents; and emulsifiers. The term “inert” is not intended to imply nontoxicity; the ingredient may or may not be chemically active. Generally, EPA has exempted inert ingredients from the requirement of a tolerance based on the low toxicity of the individual inert ingredients.

IV. Aggregate Risk Assessment and Determination of Safety

Section 408(c)(2)(A)(i) of FFDCA allows EPA to establish an exemption from the requirement for a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings, but does not include occupational exposure. Section 408(b)(2)(C) of FFDCA requires EPA to give special consideration to exposure of infants and children to the pesticide chemical residue in establishing a tolerance and to “ensure that there is a reasonable certainty that no harm will result to infants and children from aggregate exposure to the pesticide chemical residue. * * *” EPA establishes exemptions from the requirement of a tolerance only in those cases where it can be clearly demonstrated that the risks from aggregate exposure to pesticide chemical residues under reasonably foreseeable circumstances will pose no appreciable risks to human health. In order to determine the risks from aggregate exposure to pesticide inert ingredients, the Agency considers the toxicity of the inert in conjunction with possible exposure to residues of the inert ingredient through food, drinking water, and through other exposures that occur as a result of pesticide use in residential settings. If EPA is able to determine that a finite tolerance is not necessary to ensure that there is a reasonable certainty that no harm will result from aggregate exposure to the inert ingredient, an exemption from the requirement of a tolerance may be established.

Consistent with section 408(c)(2)(A) of FFDCA, and the factors specified in FFDCA section 408(c)(2)(B), EPA has reviewed the available scientific data and other relevant information in support of this action. EPA has sufficient data to assess the hazards of and to make a determination on aggregate exposure for PFAEAA including exposure resulting from the exemption established by this action. EPA's assessment of exposures and risks associated with PFAEAA follows.

A. Toxicological Profile

EPA has evaluated the available toxicity data and considered their validity, completeness, and reliability as well as the relationship of the results of the studies to human risk. EPA has also considered available information concerning the variability of the sensitivities of major identifiable subgroups of consumers, including infants and children. The acute oral median lethal dose (LD50) for one of the chemicals, (diethylaminoethanol, ethoxylated, reaction products with fatty acid trimers (CAS Reg. No. 1173188-81-2)) which has been used to represent the group of petitioned chemicals, was determined to be > 2,000 milligrams/kilogram (mg/kg) (Harmonized Test Guideline 870.1100). In a non-guideline study used for supplemental purposes, the chemical was shown to be non-irritating to both skin and eyes. A reverse mutation assay “Ames Test” with and without activation (Harmonized Test Guideline 870.5100) indicated that PFAEAA are non-mutagenic.

In addition, the Agency has established a set of criteria to identify categories of polymers expected to present minimal or no risk to human health or the environment (i.e. 40 CFR 180.960). The definition of a polymer is given in 40 CFR 723.250(b) and the exclusion criteria for identifying these low-risk polymers are described in 40 CFR 723.250(d). PFAEAA conforms to the definition of a polymer given in 40 CFR 723.250(b) and meets all of the following criteria, with the exception of the “reactive functional group” criterion (specified in 40 CFR 723.250(e) in this Unit), that are used to identify low-risk polymers.

1. The polymer is not a cationic polymer nor is it reasonably anticipated to become a cationic polymer in a natural aquatic environment.

2. The polymer does contain as an integral part of its composition the atomic elements carbon, hydrogen, and oxygen.

3. The polymer does not contain as an integral part of its composition, except as impurities, any element other than those listed in 40 CFR 723.250(d)(2)(ii).

4. The polymer is neither designed nor can it be reasonably anticipated to substantially degrade, decompose, or depolymerize.

5. The polymer is manufactured or imported from monomers and/or reactants that are already included on the TSCA Chemical Substance Inventory or manufactured under an applicable TSCA section 5 exemption.

6. The polymer is not a water absorbing polymer with a number average molecular weight (MW) greater than or equal to 10,000 daltons.

Additionally, in order to meet the low risk polymer criteria, the polymer also meets as required the exemption criteria specified in 40 CFR 723.250(e) regarding minimum MW and reactive functional groups. The polymer's number average MW of 1,200 is greater than 1,000 and less than 10,000 daltons, as required by 40 CFR 723.250(e). Further, the polymer meets the 40 CFR 723.250(e) requirement that it contain less than 10% oligomeric material below MW 500 and less than 25% oligomeric material below MW 1,000. This subsection also states that the polymer may not contain any reactive functional groups. PFAEAA contain one tertiary amine which makes it ineligible for registration under 40 CFR 180.960; however, the Agency believes that these reactive functional groups are not a safety concern for humans because information provided by the petitioner indicates that the polymer exists in a zwitterionic form in which the tertiary amine nitrogen is internally protonated and not available for further covalent bonding. Additionally, the structure of the polymer and its conformation appear to reduce the compound's basicity and nucleophilicity. This is further supported by a measurement of the isoelectric point (pI) of the polymer.

Available toxicity studies are limited. However, due to their large size (minimum number average molecular weight 1,200 amu) and the general conformance to the 40 CFR 180.960, polymerized fatty acid esters with aminoalcohol alkoxylates are not expected to pass through an intact gastrointestinal tract nor are they anticipated to penetrate intact human skin. Inhalation exposure is not expected. Because of their inability to enter systemic circulation when used as inert ingredients in pesticide formulation PFAEAA are essentially nontoxic. Therefore, the Agency concluded that a standard battery of toxicological studies are not necessary.

B. Toxicological Points of Departure/Levels of Concern

Due to its low potential hazard and lack of a hazard endpoint, the Agency has determined that a quantitative risk assessment using safety factors applied to a point of departure protective of an identified hazard endpoint is not appropriate.

A reverse mutation assay “Ames Test” with and without activation (Harmonized Test Guideline 870.5100) indicated that a representative chemical, diethylaminoethanol, ethoxylated, reaction products with fatty acid trimers (CAS Reg. No. 1173188-81-2), is non-mutagenic and based on the available information on PFAEAAs; they are not anticipated to be carcinogenic.

C. Exposure Assessment

1. Dietary exposure from food and feed uses and drinking water. In evaluating dietary exposure to PFAEAA, EPA considered exposure under the proposed exemption from the requirement of a tolerance. The primary route of exposure to PFAEAA from its use as an inert ingredient in pesticide products would most likely be through consumption of food to which pesticide products containing it have been applied, and possibly through drinking water (from runoff). Due to their physical and chemical properties it is unlikely that PFAEAA will pass through an intact gastrointestinal tract or intact human skin and are therefore, unlikely to enter systemic circulation. Because no hazard was identified for PFAEAA, a dietary exposure assessment for PFAEAA was not conducted.

2. From non-dietary exposure. The term “residential exposure” is used in this document to refer to non-occupational, non-dietary exposure (e.g., textiles (clothing and diapers), carpets, swimming pools, and hard surface disinfection on walls, floors, tables).

The proposed exemption will allow for various types of residential exposure; however, due to the characteristics of these chemicals it is not expected that PFAEAA will be absorbed through the intact gastrointestinal tract or intact human skin nor is it expected to be available via inhalation. Therefore, there is no increased risk from exposure to residential products containing PFAEAA as an inert ingredient. For that reason the Agency believes a residential risk assessment is not necessary.

3. Cumulative effects from substances with a common mechanism of toxicity. Section 408(b)(2)(D)(v) of FFDCA requires that, when considering whether to establish, modify, or revoke a tolerance, the Agency consider “available information” concerning the cumulative effects of a particular pesticide's residues and “other substances that have a common mechanism of toxicity.”

EPA has not found PFAEAA to share a common mechanism of toxicity with any other substances, and PFAEAA does not appear to produce a toxic metabolite produced by other substances. For the purposes of this tolerance action, therefore, EPA has assumed that PFAEAA does not have a common mechanism of toxicity with other substances. For information regarding EPA's efforts to determine which chemicals have a common mechanism of toxicity and to evaluate the cumulative effects of such chemicals, see EPA's Web site at http://www.epa.gov/pesticides/cumulative.

D. Safety Factor for Infants and Children

Due to large size of the PFAEAA polymers it is unlikely that they will enter systemic circulation from either the gastrointestinal tract or intact human skin. As a result, they are unlikely to elicit a toxic response in infants and children when used as an inert ingredient in pesticide products. Available toxicity studies confirm this belief and indicate low toxicity; therefore, the Agency did not use a safety factor (SF) analysis for assessing risk. For similar reasons, the additional SF for the protection of infants and children is not necessary.

E. Aggregate Risks and Determination of Safety

As indicated in Unit IV, these nonirritant (eye and skin) inert ingredients would be incapable of entering systemic circulation and therefore, unable to elicit a toxic response in adults and infants/children. Taking into consideration all available information on PFAEAA, EPA has determined that there is a reasonable certainty that no harm to any population subgroup will result from aggregate exposure to PFAEAA under reasonable foreseeable circumstances. Therefore, the establishment of an exemption from tolerance under 40 CFR 180.910 and 180.930 for residues of PFAEAA when used as an inert ingredient in pesticide formulations applied to growing crops or to raw agricultural commodities after harvest and formulations applied to animals are safe under FFDCA section 408.

V. Other Considerations

A. Analytical Enforcement Methodology

An analytical method is not required for enforcement purposes since the Agency is establishing an exemption from the requirement of a tolerance without any numerical limitation.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for PFAEAA.

VI. Conclusions

Therefore, an exemption from the requirement of a tolerance is established under 40 CFR 180.910 and 40 CFR 180.930 for the petitioned-for PFAEAA chemicals when used as an inert ingredient (surfactant) in pesticide formulations applied to growing crops or to raw agricultural commodities after harvest and formulations applied to animals.

VII. Statutory and Executive Order Reviews

This final rule establishes a tolerance under section 408(d) of FFDCA in response to a petition submitted to the Agency. The Office of Management and Budget (OMB) has exempted these types of actions from review under Executive Order 12866, entitled Regulatory Planning and Review (58 FR 51735, October 4, 1993). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994).

Since tolerances and exemptions that are established on the basis of a petition under section 408(d) of FFDCA, such as the tolerance in this final rule, do not require the issuance of a proposed rule, the requirements of the Regulatory Flexibility Act (RFA) (5 U.S.C. 601 et seq.) do not apply.

This final rule directly regulates growers, food processors, food handlers, and food retailers, not States or tribes, nor does this action alter the relationships or distribution of power and responsibilities established by Congress in the preemption provisions of section 408(n)(4) of FFDCA. As such, the Agency has determined that this action will not have a substantial direct effect on States or tribal governments, on the relationship between the national government and the States or tribal governments, or on the distribution of power and responsibilities among the various levels of government or between the Federal Government and Indian tribes. Thus, the Agency has determined that Executive Order 13132, entitled Federalism (64 FR 43255, August 10, 1999) and Executive Order 13175, entitled Consultation and Coordination with Indian Tribal Governments (65 FR 67249, November 9, 2000) do not apply to this final rule. In addition, this final rule does not impose any enforceable duty or contain any unfunded mandate as described under Title II of the Unfunded Mandates Reform Act of 1995 (UMRA) (Pub. L. 104-4).

This action does not involve any technical standards that would require Agency consideration of voluntary consensus standards pursuant to section 12(d) of the National Technology Transfer and Advancement Act of 1995 (NTTAA), Public Law 104-113, section 12(d) (15 U.S.C. 272 note).

VIII. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: February 7, 2011.
Lois Rossi,
Director, Registration Division, Office of Pesticide Programs.

Therefore, 40 CFR chapter I is amended as follows:

PART 180—[AMENDED]

1. The authority citation for part 180 continues to read as follows:

Authority: 21 U.S.C. 321(q), 346a and 371.

2. In § 180.910, the table is amended by adding alphabetically the following inert ingredients to read as follows:

§ 180.910 Inert ingredients used pre-natal and post-harvest; exemptions from the requirement of a tolerance.

* * * * *

Inert ingredients | Limits | Uses
* * * * * * *
Diethylaminoethanol, ethoxylated, reaction product with fatty acid dimers, minimum number average molecular weight (in amu), 1,200 (CAS Reg. No. 1173188-72-1) |  | Surfactant.
Diethylaminoethanol, ethoxylated, propoxylated, reaction products with fatty acid dimers, minimum number average molecular weight (in amu), 1,200 (CAS Reg. No. 1173188-75-4) |  | Surfactant.
Diethylaminoethanol, ethoxylated, reaction products with fatty acid trimers, minimum number average molecular weight (in amu), 1,200 (CAS Reg. No. 1173188-81-2) |  | Surfactant.
Diethylaminoethanol, ethoxylated, propoxylated, reaction products with fatty acid trimers, minimum number average molecular weight (in amu), 1,200 (CAS Reg. No. 1173188-83-4) |  | Surfactant.
* * * * * * *
Dimethylaminoethanol, ethoxylated, reaction products with fatty acid dimers, minimum number average molecular weight (in amu), 1,200 (CAS Reg. No. 1173188-38-9) |  | Surfactant.
Dimethylaminoethanol, ethoxylated, propoxylated, reaction products with fatty acid dimers, minimum number average molecular weight (in amu), 1,200 (CAS Reg. No. 1173188-42-5) |  | Surfactant.
Dimethylaminoethanol, ethoxylated, reaction products with fatty acid trimers, minimum number average molecular weight (in amu), 1,200 (CAS Reg. No. 1173188-49-2) |  | Surfactant.
Dimethylaminoethanol, ethoxylated, propoxylated, reaction products with fatty acid trimers, minimum number average molecular weight (in amu), 1,200 (CAS Reg. No. 1173188-67-4) |  | Surfactant.
* * * * * * *
Hydroxyethylmorpholine, ethoxylated, reaction products with fatty acid dimers, minimum number average molecular weight (in amu), 1,200 (CAS Reg. No. 1173189-00-8) |  | Surfactant.
Hydroxyethylmorpholine, ethoxylated, propoxylated, reaction products with fatty acid dimers, minimum number average molecular weight (in amu), 1,200 (CAS Reg. No. 1173189-06-4) |  | Surfactant.
Hydroxyethylpiperidine, ethoxylated, reaction products with fatty acid dimers, minimum number average molecular weight (in amu), 1,200 (CAS Reg. No. 1173189-20-2) |  | Surfactant.
Hydroxyethylpiperidine, ethoxylated, propoxylated, reaction products with fatty acid dimers, minimum number average molecular weight (in amu), 1,200 (CAS Reg. No. 1173189-22-4 |  | Surfactant.
Hydroxyethylmorpholine, ethoxylated, reaction products with fatty acid trimers, minimum number average molecular weight (in amu), 1,200 (CAS Reg. No. 1173189-09-7) |  | Surfactant.
Hydroxyethylmorpholine, ethoxylated, propoxylated, reaction products with fatty acid trimers, minimum number average molecular weight (in amu), 1,200 (CAS Reg. No. 1173189-17-7) |  | Surfactant.
Hydroxyethylpiperidine, ethoxylated, reaction products with fatty acid trimers, minimum number average molecular weight (in amu), 1,200 (CAS Reg. No. 1173189-25-7) |  | Surfactant.
Hydroxyethylpiperidine, ethoxylated, propoxylated, reaction products with fatty acid trimers, minimum number average molecular weight (in amu), 1,200 (CAS Reg. No. 1173189-28-0) |  | Surfactant.
* * * * * * *

3. In § 180.930, the table is amended by adding alphabetically the following inert ingredients to read as follows:

§ 180.930 Inert ingredients applied to animals; exemptions from the requirement of a tolerance.

Inert ingredients | Limits | Uses
* * * * * * *
Diethylaminoethanol, ethoxylated, reaction product with fatty acid dimers, minimum number average molecular weight (in amu), 1,200 (CAS Reg. No. 1173188-72-1) |  | Surfactant.
Diethylaminoethanol, ethoxylated, propoxylated, reaction products with fatty acid dimers, minimum number average molecular weight (in amu), 1,200 (CAS Reg. No. 1173188-75-4) |  | Surfactant.
Diethylaminoethanol, ethoxylated, reaction products with acid trimers, minimum number average molecular weight (in amu), 1,200 (CAS Reg. No. 1173188-81-2) |  | Surfactant.
Diethylaminoethanol, ethoxylated, propoxylated, reaction products with fatty acid trimers, minimum number average molecular weight (in amu), 1,200 (CAS Reg. No. 1173188-83-4) |  | Surfactant.
* * * * * * *
Dimethylaminoethanol, ethoxylated, reaction products with fatty acid trimers, minimum number average molecular weight (in amu), 1,200 (CAS Reg. No. 1173188-38-9) |  | Surfactant.
Dimethylaminoethanol, ethoxylated, propoxylated, reaction products with fatty acid dimers, minimum number average molecular weight (in amu), 1,200 (CAS Reg. No. 1173188-42-5) |  | Surfactant.
Dimethylaminoethanol, ethoxylated, reaction products with fatty acid trimers, minimum number average molecular weight (in amu), 1,200 (CAS Reg. No. 1173188-49-2) |  | Surfactant.
Dimethylaminoethanol, ethoxylated, propoxylated reaction products with fatty acid trimers, minimum number average molecular weight (in amu), 1,200 (CAS Reg. No. 1173188-67-4 ) |  | Surfactant.
* * * * * * *
Hydroxyethylmorpholine, ethoxylated, reaction products with fatty acid dimers, minimum number average molecular weight (in amu), 1,200 (CAS Reg. No. 1173189-00-8) |  | Surfactant.
Hydroxyethylmorpholine, ethoxylated, propoxylated, reaction products with fatty acid dimers, minimum number average molecular weight (in amu), 1,200 (CAS Reg. No. 1173189-06-4) |  | Surfactant.
Hydroxyethylpiperidine, ethoxylated, reaction products with fatty acid dimers, minimum number average molecular weight (in amu), 1,200 (CAS Reg. No. 1173189-20-2) |  | Surfactant.
Hydroxyethylpiperidine, ethoxylated, propoxylated, reaction products with fatty acid dimers, minimum number average molecular weight (in amu), 1,200 (CAS Reg. No. 1173189-22-4) |  | Surfactant.
Hydroxyethylmorpholine, ethoxylated, reaction products with fatty acid trimers, minimum number average molecular weight (in amu), 1,200 (CAS Reg. No. 1173189-09-7) |  | Surfactant.
Hydroxyethylmorpholine, ethoxylated, propoxylated, reaction products with fatty acid trimers, minimum number average molecular weight (in amu), 1,200 (CAS Reg. No. 1173188-67-4) |  | Surfactant.
Hydroxyethylpiperidine, ethoxylated, reaction products with fatty acid trimers, minimum number average molecular weight (in amu), 1,200 (CAS Reg. No. 1173189-25-7) |  | Surfactant.
Hydroxyethylpiperidine, ethoxylated, propoxylated, reaction products with fatty acid trimers, minimum number average molecular weight (in amu), 1,200 (CAS Reg. No. 1173189-28-0) |  | Surfactant.
* * * * * * *

[FR Doc. 2011-3400 Filed 2-15-11; 8:45 am]

BILLING CODE 6560-50-P